DEPARTMENT OF HEALTH AND HUMAN SERVICES

Agency for Toxic Substances and Disease Registry

[ATSDR-203]

Public Health Assessments Completed

AGENCY: Agency for Toxic Substances and Disease Registry(ATSDR), Department of Health and Human Services (HHS).

ACTION: Notice.

SUMMARY: This notice announces those sites for which ATSDR has completed public health assessments from April through June 2004. This notice also includes sites for which ATSDR completed public health assessments during September 2003 through March 2004 that were erroneously omitted from previous submitted notices. This list includes sites that are on or proposed for inclusion on the National Priorities List (NPL) and includes sites for which assessments were prepared in response to requests from the public.

FOR FURTHER INFORMATION CONTACT: William Cibulas, Jr., Ph.D.,Acting Director, Division of Health Assessment and Consultation, Agency for Toxic Substances and Disease Registry, 1600 Clifton Road, NE., Mailstop E-32, Atlanta, Georgia 30333, telephone (404) 498-0140.

SUPPLEMENTARY INFORMATION: The most recent list of completed public health assessments was published in the Federal Register on July 9, 2004 [69 FR 41489]. This announcement is the responsibility of ATSDR under the regulation, Public Health Assessments and Health Effects Studies of Hazardous Substances Releases and Facilities [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments are available for public inspection at the Division of Health Assessment and Consultation, Agency for Toxic Substances and Disease Registry, Century Center Building, 1825 Century Boulevard, Atlanta, Georgia (not a mailing address), between 8 a.m. and 4:30 p.m., Monday through Friday, except legal holidays. The completed public health assessments are also available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

During April 1-June 30, 2004, public health assessments were issued for the sites listed below. This list also includes public health assessments issued from September 1, 2003, through March 31, 2004, that were previously omitted:

NPL and Proposed NPL Sites

Alaska

Fort Wainwright—(PB2004-105052)

Arkansas

Ouachita Nevada Wood Treater—(PB2004-105043)

California

Cooper Drum Company—(PB2004-105854)

Laboratory for Energy-Related Health Research (U.S. DOE)[a/k/a Old Campus Landfill (University of California, Davis)]—(PB2004-105883)

Connecticut

Hamden Middle School (a/k/a Newhall Street Field)—(PB2004-105048)

Delaware

Dover Air Force Base—(PB2004-105065)

Metachem Products, LLC (a/k/a Standard Chlorine of Delaware, Incorporated)—(PB2004-105616)

Guam

Agana Power Plant—(PB2004-105063)

Idaho

Idaho National Engineering and Environmental Laboratory (U.S. DOE)—(PB2004-105066)

St. Maries Creosote—(PB2004-105617)

Illinois

Beloit Corporation—(PB2004-105605)

Koppers Wood Treating Company (a/k/a Galesburg/Koppers Company)—(PB2004-105604)

Sauget Area 1—Dead Creek, Sauget Area 1—Dead Creek Area G (Sauget I), and Sauget Area 1—Dead Creek Segment A—(PB2004-105040)

Sauget Area 2 Landfill (a/k/a Sauget WWTP)—(PB2004-105046)

Sauget Area 2 Landfill (a/k/a Sauget and County Landfill (Site Q)—(PB2004-105041)

Iowa

Railroad Avenue Groundwater Contamination—(PB2004-105055)

Louisiana

Delatte Metals—(PB2004-105609)

Maine

Eastland Woolen Mill—(PB2004-105062)

Massachusetts

General Electric Site—East Street Area II—(PB2004-105038)

General Electric Site—Hill 78 Area—(PB2004-105037)

Hanscom Field/Hanscom Air Force Base—(PB2004-105608)

Minnesota

Gopher State Ethanol (a/k/a Minnesota Brewing Co.)—(PB2004-105067)

Missouri

Oak Grove Village Well—(PB2004-105036)

Riverfront (a/k/a New Haven Public Water Supply)—(PB2004-105048)

Montana

Barker-Hughesville Mining District Site—(PB2004-105061)

Carpenter Snow Creek Mining District—(PB2004-105045)

New York

Consolidated Iron and Metal—(PB2004-105828)

Diaz Chemical C/O FMC—(PB2004-105039)

North Carolina

Reasor Chemical Company NPL Site—(PB2004-105057)

Ohio

Bison Corporation—(PB2004-105042)

Oregon

Taylor Lumber and Treating, Incorporated—(PB2004-105059)

Pennsylvania

Watson Johnson Landfill—(PB2004-105880)

Puerto Rico

Scorpio Recycling, Incorporated, Candelaria—(PB2004-105877)

South Carolina

MaCalloy Corporation—(PB2004-105054)

Tennessee

Oak Ridge Reservation—(PB2004-105053)

Texas

Falcon Refinery—(PB2004-105056)

Gulfco Marine Maintenance—(PB2004-105606)

R & H Oil Company and Tropicana Energy Company—(PB2004-105044)

Utah

Intermountain Waste Oil Refinery—(PB2004-105060)

Virginia

Former Nansemond Ordnance Depot—(PB2004-105047)

Marine Corps Combat Development Command—(PB2004-10614)

Naval Amphibious Base Little Creek—(PB2004-105064)

Norfolk Naval Shipyard—(PB2004-105050)

St. Juliens Creek Annex (U.S. Navy)—(PB2004-105611)

Washington

Lower Duwamish Waterway—(PB2004-105051)

Wisconsin

Ashland/Northern States Power Lakefront—(PB2004-105035)

Non-NPL Petitioned Sites

California

Waste Disposal, Incorporated, Group—(PB2004-105613)

Minnesota

Valadco Confined Livestock Operation (a/k/a Valadco Sites)—(PB2004-105049)

Missouri

Amoco-Sugar Creek (a/k/a Amoco Oil Company)—(PB2004-105610)

New York

Al Turi Landfill—(PB2004-105612)

Washington

Northport Area—(PB2004-105906)

Rayonier Incorporated, Port Angeles Mill—(PB2004-105607)

Dated: August 6, 2004.
Georgi Jones,
Director, Office of Policy, Planning, and Evaluation, National Center for Environmental Health, Agency for Toxic Substances and Disease Registry.

[FR Doc. 04-18586 Filed 8-12-04; 8:45 am]

BILLING CODE 4163-70-P